FEDERAL TRADE COMMISSION

Granting of Request for Early Termination of the Waiting Period Under the Premerger Notification Rules

Section 7A of the Clayton Act, 15 U.S.C. 18a, as added by Title II of the Hart-Scott-Rodino Antitrust Improvements Act of 1976, requires person contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
20051000 | Merrill Lynch & Co., Inc | AMVESCAP PLC | AMVESCAP Retirement, Inc.
Transactions Granted Early Termination—06/07/2005
20050942 | Philip F. Anschutz | Carter David Meiselman | Eastern Federal Corporation.
20051028 | Fenway Partners Capital Fund II, L.P | Craig T. and Ellen Amato | Panther II Transportation, Inc.
20051031 | American Capital Strategies, Ltd | E&B Giftware LLC | E&B Giftware LLC.
20051032 | Apolio Investment Fund IV, L.P | Wyndham International, Inc | Wyndham International, Inc.
20051033 | Apollo Real Estate Investment Fund IV, L.P | Wyndham International, Inc | Wyndham International, Inc.
20051034 | AIF/THL PAH LLC | Wyndham International, Inc | Wyndham International, Inc.
20051035 | Thomas H. Lee Equity Fund IV, L.P | Wyndham International, Inc | Wyndham International, Inc.
20051046 | Seaboard Flour LLC | Daily Foods, Inc | Daily Foods, Inc.
20051053 | Gannett Co., Inc | Jules Gardner | Andrew Ellenthal, Christopher Saridakis, Jules Gardner 2005 Grantor Retained Annuity, Keith Gelles, Point Roll, Inc.
Transactions Granted Early Termination—06/08/2005
20050998 | Cephalon, Inc. | Salmedix, Inc. | Salmedix, Inc.
Transactions Granted Early Termination—06/09/2005
20041212 | Harrah's Entertainment, Inc | Caesars Entertainment, Inc | Caesars Entertainment, Inc.
20050436 | William J. Yung III | Caesars Entertainment, Inc | Caesars Entertainment, Inc.
Transactions Granted Early Termination—06/10/2005
20050857 | Avid Technology, Inc. | Pinnacle Systems, Inc. | Pinnacle Systems, Inc.
20050873 | ChevronTexaco Corporation | Unocal Corporation | Unocal Corporation.
20050995 | Allied Capital Corporation | Spear Pharmaceuticals, Inc | Spear Pharmaceuticals, Inc.
20051024 | Mr. John W. Stanton & Mrs. Theresa E. Gillespie | ALLTEL Corporation | ALLTEL Corporation.
20051025 | Cardiac Science, Inc. | Quinton Cardiology Systems, Inc | Quinton Cardiology Systems, Inc.
20051026 | Quinton Cardiology Systems, Inc | Cardiac Science, Inc. | Cardiac Science, Inc.
20051030 | Baron Frere | Alleghany Corporation | Mineral Holdings Inc.
20051036 | Tire Rack Holdings, Inc. | The Tire Rack, Inc. | The Tire Rack, Inc.
20051043 | Paul G. Desmarais | Alleghany Corporation | Mineral Holdings Inc.
20051048 | Saturn Pharmaceuticals, Inc | PLIVA d.d. | Odyssey Pharmaceuticals.
20051049 | Computer Horizons Corp | Analysts International Corporation | Analysts International Corporation.
20051056 | Johnson Controls, Inc. | Edwin J. McLaughlin | USI Companies Inc.
20051057 | U.S. Bancorp | Certegy Inc. | Certegy Card Services, Inc.
20051059 | Ralph Lauren | Reebok International Ltd | Ralph Lauren Footwear Co., Inc.
20051070 | Reliance Steel & Aluminum Co | James R. Sutow | Chapel Steel Corp.
20051084 | American Capital Strategies Ltd | Linsalata Capital Partners Fund IV, L.P | PHI Holding Company, Inc.
20051088 | Affiliated Computer Services, Inc | LiveBridge, Inc. | LiveBridge, Inc.
20051089 | Nippon Suisan Kaisha, Ltd | King & Prince Seafood Corporation | King & Prince Seafood Corporation.
20051095 | United Parcel Service, Inc | Overnite Corporation | Overnite Corporation.
20051104 | Nautic Partners V, L.P. | Hunt Capital Partners, L.P | International Radiology Group, LLC.
20051111 | Cargill Incorporated | Better Beef Limited | Better Beef Limited, deJonge Farms Inc.
Transactions Granted Early Termination—06/13/2005
20051041 | Odyssey Investment Partners Fund III, LP | NSP Holdings L.L.C. | Norcross Safety Products L.L.C. NSP Holdings Capital Corp.
20051066 | Home Depot U.S.A., Inc | Utility Supply of America, Inc. d/b/a USABlueBook | Utility Supply of America, Inc. d/b/a USABlueBook.
Transactions Granted Early Termination—06/14/2005
20050996 | Genzyme Corporation | Bone Care International, Inc | Bone Care International, Inc.
Transactions Granted Early Termination—06/15/2005
20050990 | A.T. Williams Oil Company | Trade Oil Company | Trade Oil Company.
20050991 | Amerada Hess Corporation | Trade Oil Company | Trade Oil Company.
Transactions Granted Early Termination—06/16/2005
20051100 | T&F Informa PLC | Lord Laidlaw of Rothiemay | I.I.R. Holdings Limited.
20051113 | Ralcorp Holdings, Inc. | J. Mark Grosvenor | Medallion Foods, Inc.
Transactions Granted Early Termination—06/17/2005
20051045 | Walter Wang | New Mighty U.S. Trust | J-M Manufacturing Company, Inc.
20051086 | Berkshire Hathaway Inc. | General Electric Company | Medical Protective Corporation.
20051091 | Gerald J. Ford | Affordable Residential Communities, Inc | Affordable Residential Communities, Inc.
20051102 | Apollo Investment Fund V, L.P | Metals USA, Inc. | Metals USA, Inc.
20051108 | Pacific Equity Partners Fund II L.P | Worldwide Restaurant Concepts, Inc | Worldwide Restaurant Concepts, Inc.
20051114 | Richard B. Cohen | Lone Star Fund V (U.S.), L.P | BI-LO, LLC.
20051119 | AG Holding, L.P | Fletcher Jones, Jr. Life Trust U/D/T 2/16/94 | Fletcher Jones Luxury Vehicles, Inc.
20051120 | Rodney D. Windley | Michael S. Brown | Capital Health Management Group, Inc.
20051122 | President and Fellows of Harvard College Suez |  | Trenton Energy Corporation. Trigen Building Services Corporation. Trigen-Kansas City Energy Corporation. Trigen-Maryland Steam Corporation. Trigen-Missouri Energy Corporation. Trigen-Oklahoma Energy Corporation. Trigen-Schuylkill Cogeneration, Inc. United Thermal Corporation.
20051123 | PCT Equity 2 Limited | Global Promo Group Holdings, LLC | Global Promo Group, Inc.
20051130 | Trident III, L.P | Zurich Financial Services | ZC Sterling Corporation.
20051135 | Longyear Global Holdings, Inc | Anglo American plc | Boart Longyear International BV.
20051137 | The Edward W. Scripps Trust | Shopzilla, Inc | Shopzilla, Inc.
20051148 | Dofasco Inc. | Quebec Cartier Mining Company | Quebec Cartier Mining Company.

FOR FURTHER INFORMATION CONTACT: Sandra M. Peay, Contact Representative or Renee Hallman, Case Management Assistant, Federal Trade Commission, Premerger Notification Office, Bureau of Competition, Room H-303, Washington, DC 20580, (202) 326-3100.

By Direction of the Commission,
Donald S. Clark,
Secretary.

[FR Doc. 05-12830 Filed 6-28-05; 8:45 am]

BILLING CODE 6750-01-M